FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201289.

Agreement Name: Australia New Zealand South Pacific Islands Agreement.

Parties: PDL International PTE Ltd; ANL Singapore PTE Ltd dba Sofrana ANL; Pacific Forum Line (Group) Limited; and Neptune Pacific Line Inc.

Filing Party: David K. Monroe; GKG Law.

Synopsis: The agreement authorizes the parties to share vessels in the trade between Australia, New Zealand, New Caledonia, Vanuatu, Fiji, Tonga, and Samoa on the one hand, and American Samoa on the other hand. The parties are also authorized to cooperate in a pooling arrangement in the trade.

Proposed Effective Date: 3/28/2019.

Location: http://fmcinet/Fmc.Agreements.Web/Public/AgreementHistory/21331.

Dated: February 12, 2019.
Rachel Dickon,
Secretary.

[FR Doc. 2019-02541 Filed 2-14-19; 8:45 am]

BILLING CODE 6731-AA-P